DEPARTMENT OF THE INTERIOR

Bureau of Land Management

[LLMT926000-10-L19100000-BJ0000-LRCS44020800]

Notice of Filing of Plats of Survey; Montana

AGENCY: Bureau of Land Management, Interior.

ACTION: Notice of filing of plats of survey.

SUMMARY: The Bureau of Land Management (BLM) will file the plat of survey of the lands described below in the BLM Montana State Office, Billings, Montana, thirty (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Program Manager, Bureau of Reclamation, Great Plains Region, Montana Area Office, Billings, Montana, and was necessary to determine the boundaries of Federal Interest lands.

The lands we surveyed are:

Principal Meridian, Montana

T. 36 N., R. 14 E.

The plat, in 3 sheets, representing the dependent resurvey of dependent resurvey of portions of the Ninth Standard Parallel North, through Range 14 West, the subdivisional lines, the subdivision of certain sections, and certain rights-of-way of the United States Reclamation Service (U.S.R.S.) Reserve, St. Mary Storage Unit (Canal), through sections 3, 16, and 27, Township 36 North, Range 14 West, Principal Meridian, Montana, was accepted June 3, 2010.

We will place a copy of the plat, in 3 sheets, and related field notes we described in the open files. They will be available to the public as a matter of information. If the BLM receives a protest against this survey, as shown on this plat, in 3 sheets, prior to the date of the official filing, we will stay the filing pending our consideration of the protest. We will not officially file this plat, in 3 sheets, until the day after we have accepted or dismissed all protests and they have become final, including decisions or appeals.

Authority: 43 U.S.C. Chap 3.

Dated: June 4, 2010.
James D. Claflin,
Chief Cadastral Surveyor, Division of Resources.

[FR Doc. 2010-14081 Filed 6-10-10; 8:45 am]

BILLING CODE 4310-DN-P